DEPARTMENT OF TRANSPORTATION

Federal Aviation Administration

Eighth RTCA SC-233 Addressing Human Factors/Pilot Interface Issues for Avionics Plenary

AGENCY: Federal Aviation Administration (FAA), U.S. Department of Transportation (DOT).

ACTION: Eighth Plenary of RTCA SC-233 Addressing Human Factors/Pilot Interface Issues for Avionics.

SUMMARY: The FAA is issuing this notice to advise the public of a meeting of Eighth Plenary of RTCA SC-233 Addressing Human Factors/Pilot Interface Issues for Avionics.

DATES: The meeting will be held November 15-17, 2016 08:30 a.m.-04:30 p.m.

ADDRESSES: The meeting will be held at: Cessna Employees Fitness Center, 6711 W 31st St S., Wichita, Kansas 67215.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Eighth RTCA SC-233 Addressing Human Factors/Pilot Interface Issues for Avionics Plenary. The agenda will include the following:

Tuesday November 15, 2016

A.M.

• Introduction, Upcoming PMC Dates and Deliverable

• Review of TOR

• September meeting summary

• Roadmap for remaining items to be completed; notional schedule of activities remaining

• Consensus on document review process

P.M.

• Overview of the combined document and initial feedback

• Detailed review of document and identification of work to be done

Wednesday November 16, 2016

• Working Groups Break Out Sessions

• End of the Day Working Group Status Report Outs

Thursday November 17, 2016

A.M.

• Working Groups Break Out Session

P.M.

• Working Group Status

• Working group leader reports

• Follow-on actions

• Meeting Recap, Action Items, Key Dates

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 19, 2016.
Mohannad Dawoud,
Management & Program Analyst, Partnership Contracts Branch, ANG-A17, NextGen, Procurement Services Division, Federal Aviation Administration.

[FR Doc. 2016-25670 Filed 10-21-16; 8:45 am]

BILLING CODE 4910-13-P